DEPARTMENT OF STATE

[Public Notice: 10068]

In the Matter of the Amendment of the Designation of Yarmouk Martyrs Brigade (and Other Aliases) as a Specially Designated Global Terrorist

Based upon a review of the administrative record assembled in this matter, and in consultation with the Attorney General and the Secretary of the Treasury, I have concluded that there is a sufficient factual basis to find that Yarmouk Martyrs Brigade (and other aliases), uses the alias Khalid bin Al-Walid Army, also known as Khalid ibn al-Walid Army, also known as Khalid Bin-al-Walid Army, also known as Khalid Bin Al-Waleed army, also known as Jaysh Khalid Bin-al-Walid, also known as Jaish Khaled Bin Alwaleed, also known as Jaysh Khaled bin Al Walid, also known as Army of Khaled Bin Alwaleed, as its primary name.

Therefore, pursuant to Section 1(b) of Executive Order 13224, I hereby amend the designation of Yarmouk Martyrs Brigade as a Specially Designated Global Terrorist to include the following new aliases: Khalid bin Al-Walid Army, also known as Khalid ibn al-Walid Army, also known as Khalid Bin-al-Walid Army, also known as Khalid Bin Al-Waleed army, also known as Jaysh Khalid Bin-al-Walid, also known as Jaish Khaled Bin Alwaleed, also known as Jaysh Khaled bin Al Walid, also known as Army of Khaled Bin Alwaleed.

This determination shall be published in the Federal Register.

Dated: July 13, 2017.
Rex W. Tillerson,
Secretary of State.

[FR Doc. 2017-15724 Filed 7-25-17; 8:45 am]

BILLING CODE 4710-AD-P